DEPARTMENT OF TRANSPORTATION

Federal Highway Administration

[FHWA Docket No. FHWA-2009-0106]

Express Lanes Demonstration Program—Performance Goals for the Texas Department of Transportation Express Lanes IH-30 and IH-35E Express Lanes Projects

AGENCY: Federal Highway Administration (FHWA), DOT.

ACTION: Notice; request for comments.

SUMMARY: Section 1604(b)(7) of the Safe, Accountable, Flexible, Efficient Transportation Equity Act: A Legacy for Users (SAFETEA-LU) (Pub. L. 109-59; Aug. 10, 2005), authorizes the Secretary of Transportation (Secretary) to develop and publish performance goals for each express lane project accepted under the Express Lanes Demonstration Program. This notice lists the Performance Goals, Monitoring and Reporting Program requirements for the IH-30 (the Tom Landry Freeway) Express Lanes project and IH-35E Express Lanes project in Dallas in the State of Texas.

DATES: Comments must be received on or before December 3, 2009.

ADDRESSES: Mail or hand deliver comments to: Docket Management Facility, U.S. Department of Transportation, 1200 New Jersey Avenue, SE., Washington, DC 20590, or submit electronically at http://www.regulations.gov, or fax comments to (202) 493-2251.

All comments should include the docket number that appears in the heading of this document. All comments received will be available for examination and copying at the above address from 9 a.m. to 5 p.m., e.t., Monday through Friday, except Federal holidays. Those desiring notification of receipt of comments must include a self-addressed, stamped postcard or may print the acknowledgment page that appears after submitting comments electronically. Anyone is able to search the electronic form of all comments in any one of our dockets by the name of the individual submitting the comment (or signing the comment, if submitted on behalf of an association, business, or labor union). You may review the DOT's complete Privacy Act Statement in the Federal Register published on April 11, 2000 (Volume 65, Number 70, Pages 19477-78), or you may visit http://DocketsInfo.dot.gov.

FOR FURTHER INFORMATION CONTACT: For questions about this notice, contact Mr. Wayne Berman, Office of Operations, (202) 366-4069, (Wayne.Berman@dot.gov); for legal questions contact Mr. Michael Harkins, Attorney Advisor, Office of the Chief Counsel, (202) 366-4928, (Michael.Harkins@dot.gov). The FHWA is located at 1200 New Jersey Avenue, SE., Washington, DC 20590. Office hours are from 7:45 a.m. to 4:15 p.m., e.t., Monday through Friday, except Federal holidays.

SUPPLEMENTARY INFORMATION:

Electronic Access

An electronic copy of this document may be downloaded from the Federal Register's home page at: http://www.archives.gov and the Government Printing Office's database at: http://www.access.gpo.gov/nara.

Background

Section 1604(b) of SAFETEA-LU, established the Express Lanes Demonstration Program (ELDP). Under the ELDP, the Secretary must carry out 15 demonstration projects during the period of fiscal years 2005 through 2009 to permit States to collect a toll from motor vehicles at eligible facilities. On May 28, 2009, the Texas Department of Transportation (TxDOT) submitted applications to the FHWA for tolling authority under the ELDP for the IH-30 (Tom Landry Freeway) Express Lanes project and the IH-35E Express Lanes Project, both in the Dallas metropolitan region. After review and analysis, both applications were approved on July 1, 2009.

The IH-30 Express Lanes project corridor is comprised of the segments of I-30W from the Tarrant County line (to Bairds Farm Road/Legends Way) to the Dallas Central Business District (to I-35E). The project includes mobility improvements on approximately 17 miles and will ultimately feature reversible managed lanes for the entire length of the Corridor. The existing IH-30 is an intermittent three-to-five-lane section of operating freeway with segments that include additional complementary auxiliary lane sections to improve operations. The fully reconstructed Corridor will retain at least the same number of existing continuous toll-free general purpose lanes, will add tolled managed lanes along certain segments, and will provide additional mobility improvements. The managed lanes will allow an alternate choice for users to select a priced option to minimize and guarantee their trip time along the corridor.

The IH-35E Express Lanes Project corridor is comprised of three segments of I-35E from I-635 in Dallas County to north of US 380 in Denton County. The project includes mobility improvements on just over 28 miles and will feature two to four managed lanes (one to two lanes each way) for the entire corridor length. The project corridor will retain the same number of toll-free general purpose lanes that currently exist and will add tolled managed lanes. The managed lanes will allow an alternate choice for users to select a priced option to minimize and guarantee their trip time along the corridor.

Pursuant to section 1604(b)(7) of SAFETEA-LU, the Secretary, in cooperation with the State, public authority, private entity, and other program participants must develop performance goals for each project and publish such goals for public comment. This notice lists, and solicits public comment on, the Performance Goals, Monitoring and Reporting Programs for the IH-30 and the IH-35E Express Lanes Projects.

Performance Goals, Monitoring and Reporting Program

The following describes the agreed upon ELDP's Performance Goals, Monitoring and Reporting Program for the IH-30 and the IH-35E Express Lanes Projects. This program has been developed cooperatively between TxDOT and FHWA.

A. Performance Goals

The FHWA and TxDOT have identified the following four Performance Goals for the project. These Performance Goals reflect the priorities for the project at the State and local levels. The Performance Goals also reflect the goals of the Express Lanes Demonstration Project set forth in Federal law at SAFETEA-LU section 1604(b).

I. Effects on travel, traffic, and air quality.

II. Distribution of benefits and burdens.

III. Use of alternative transportation modes.

IV. Use of revenues to meet transportation or impact mitigation needs.

B. Core Performance Measures

The following Core Performance Measures will be utilized to focus the monitoring and reporting work undertaken to evaluate facility performance. The Performance Goals for which each Core Performance Measure will provide relevant information are indicated in parentheses. Specific reporting items for each Core Performance Measure are listed immediately below it.

Generally, facility performance will be assessed by reference to baseline values or trends for the reported items under the Core Performance Measures. The methodology for determining each baseline value or trend will be explained in detail in the Performance Monitoring and Evaluation Manual described below.

1. Travel-Time Reliability, Volume, Speed, and Incidents in Priced Lanes (I, II, III)

• Report percentage of time that the managed lanes are operating at a minimum average speed of 50 miles per hour, broken down into daily averages for the a.m. peak, off-peak, and p.m. peak periods.

• Report 95th and 80th percentile travel times for the managed lanes, broken down into daily averages for the a.m. peak, off-peak, and p.m. peak periods. (The 95th percentile represents the slowest traffic day each month. The 80th percentile represents the slowest traffic day each week.) This measure is reported in minutes.

• Report the Buffer Index calculated to demonstrate performance in the managed lanes, broken down into daily averages for the a.m. peak, off-peak, and p.m. peak periods. The Buffer Index is the extra time that travelers must add to their average travel time when planning trips to ensure on-time arrival. (For example, a buffer index of 40 percent means that for a trip that usually takes 20 minutes a traveler should budget an additional 8 minutes to ensure on-time arrival most of the time. The 8 extra minutes is called the buffer time. Therefore, the traveler should allow 28 minutes for the trip in order to ensure on-time arrival 95 percent of the time.)

• Report traffic volumes and traffic volume changes on a total and percentage-change basis annually, broken into daily averages, for daily total, by a.m. peak, off-peak, and p.m. peak for the managed lanes by direction.

• Report traffic speeds and traffic speed differences from the previous year (on a total and percentage-change basis) annually, broken into daily averages, for daily total, by a.m. peak, off-peak, and p.m. peak for the managed lanes by direction.

• If reasonably available from data sources; verify, validate, reconcile, catalogue, identify, and report actual number of incidents, and identify the effect on lane availability for the managed lanes during this time, including the length of time each such lane was unavailable.

• Report on the speed and travel time differential between the general purpose lanes and the managed lanes, broken into daily averages, for daily total, by a.m. peak, off-peak, and p.m. peak.

• Report on managed lane availability as a percentage of time the lane is available for operations, broken into daily averages, by a.m. peak and p.m. peak for managed lanes. This could include weather, maintenance, problems with operations, opening procedures, or special events that could affect the lane availability.

2. Changes in Mode Split/Ridership/Vehicle Occupancies of Priced vs. General Purpose Lanes (I, II, III)

• Report number of declared High Occupancy Vehicles (HOV)s for the year and differences from the previous year (on a total and percentage-change basis), broken into daily averages, by a.m. peak and p.m. peak for managed lanes.

• Report number of buses (i.e. registered non-revenue accounts) for the year and differences from the previous year (on a total and percentage-change basis), broken into daily averages, by a.m. peak, off-peak, and p.m. peak for managed lanes.

• Report average toll charged for the year and differences from the previous year (on a total and percentage-change basis) by vehicle type, broken into daily averages, by a.m. peak, off-peak, and p.m. peak for managed lanes.

• If reasonably available, report ridership volumes for the year and differences from the previous year (on a total and percentage-change basis) by vehicle type; Single Occupancy Vehicle (SOV), HOV2+, HOV3+, Bus, Van Pool and Other, broken into daily averages by a.m. peak, off-peak, and p.m. peak for the general purpose lanes, managed lanes, and parallel access roads as applicable.

• Report on the amount of vehicle miles traveled for the year and differences from the previous year (on a total and percentage-change basis), by vehicle type; SOV, HOV2+, HOV3+, Bus, Van Pool and Other, broken into daily averages by a.m. peak, off-peak, and p.m. peak on the managed lanes.

• If reasonably available, report on violation rates for (1) unauthorized users on the lane, (2) invalid tag/license plate on vehicle, or (3) SOV trying to use the lane at the HOV rate, broken into daily averages by a.m. peak, off-peak, and p.m. peak for the managed lanes.

• Report Metropolitan Planning Organization rideshare payments, HOV subsidy, and other disbursements.

3. Transit Schedule Adherence (II, III)

• To the extent the information is reasonably available, report on transit service reliability—percentage of on-time performance of transit service.

• To the extent the information is reasonably available, report on any existing bus transit routes or sanctioned van-pool accounts utilizing the corridor in advance of opening the project for tolling. This is to be used as a benchmark for added bus transit routes or sanctioned van-pool accounts utilizing the corridor after tolling begins.

4. Application of Revenue Reinvestment (II, IV)

• Report breakdown of the use of revenues.

• Report percentage of revenue used to mitigate impacts.

5. Change in Criteria Pollutant Emissions for the Region (I)

• Report on the concentrations of six criteria pollutants (particle pollution, ground-level ozone, carbon monoxide, sulfur oxides, nitrogen oxides, and lead) during the current year and differences from the previous year (on a total and percentage-change basis) utilizing reasonably available and reliable air quality reporting tools and mechanisms.

• Utilize the results of the core performance sub-elements B.I(a) (Travel-time reliability in tolled lanes) and B.III(a) (Changes in mode split/ridership/vehicle occupancies of tolled vs. general purpose lanes) to the extent possible to assist in utilizing the North Central Texas Council of Governments' air quality modeling tools and mechanisms to demonstrate any reductions in criteria pollutant emissions.

C. Monitoring and Reporting Program

I. Performance Monitoring and Evaluation Manual

Prior to commencement of pricing operations on the facility, TxDOT will prepare a Performance Monitoring and Evaluation Manual document that will describe the information to be collected, the methodology for identifying baseline values and, the approach for developing the annual reports that assess facility performance. It will serve as a tool to facilitate achievement of the performance goals identified in Part A by documenting the program for regular monitoring and reporting to be utilized in the assessment of the Core Performance Measures identified in Part B.

The Performance Monitoring and Evaluation Manual will be in the form of an instruction manual, and should address the following subject areas.

1. Project Overview.

2. Purpose and Need.

3. Organization of Document.

4. Overview of Project Goals.

5. Overview of Core Performance Measures.

a. Key Questions and definition of Core Performance Measures.

b. Description of how specific reported information relates to Core Performance Measures and Performance Goals.

6. Methodology for Determining Baseline Measurements.

7. Annual Monitoring Program Measurement Processes and Procedures.

8. Coordination with other Transportation Providers.

9. Reference Documentation Listing as Applicable.

II. Monitoring and Reporting Annual Report

The annual monitoring and reporting program measurement processes and procedures will be documented in an annual report that shall include the following sections.

1. Project Information.

2. Performance Highlights.

3. Performance Summary.

4. Performance Details.

D. Timeline and Process for Submission of ELDP Monitoring Report

The annual reporting period for the Express Lanes Demonstration Program is between January 1 and December 31 of each year. Data collected and reported will align with this time period. The first year's data after tolling commences will be data collected from the date of service commencement to December 31 of that year.

The TxDOT's submission to FHWA of the Monitoring and Reporting Annual Report will occur no later than March 31 of each year.

Authority: Section 1604(b)(7) of the Safe, Accountable, Flexible, Efficient Transportation Equity Act: A Legacy for Users (SAFETEA-LU) (Pub. L. 109-59; Aug. 10, 2005).

Issued on: October 23, 2009.
Victor M. Mendez,
Federal Highway Administrator.

[FR Doc. E9-26406 Filed 11-2-09; 8:45 am]

BILLING CODE 4910-22-P